SMALL BUSINESS ADMINISTRATION

[Declaration of Economic Injury Disaster #9ZN2]

State of Alaska (Amendment #1) Corrected Copy

The above numbered declaration is hereby amended to include the Matanuska-Susitna Borough in the State of Alaska as an economic injury disaster area due to damages caused by wildfires that began on June 7, 2004, and continue to burn.

In addition, applications for economic injury loans from small businesses located in the contiguous political areas of Kenai Peninsula Borough, Municipality of Anchorage, Iditarod Area Regional Education Attendance Area (REAA), and Chugach REAA in the State of Alaska may be filed until the specified date at the previously designated location. All other political areas contiguous to the above named primary borough have previously been declared.

All other information remains the same, i.e., the deadline for filing applications for economic injury is April 22, 2005.

(Catalog of Federal Domestic Assistance Program Nos. 59002)

Dated: August 4, 2004.
Hector V. Barreto,
Administrator.

[FR Doc. 04-18320 Filed 8-10-04; 8:45 am]

BILLING CODE 8025-01-P